DEPARTMENT OF DEFENSE

Department of the Army

Availability for Non-Exclusive, Exclusive, or Partially Exclusive Licensing of U.S. and Foreign Patents and Patent Applications Concerning Indolo [2,1-B] Quinazole-6,12-Dione Antimalarial Compounds and Methods of Treating Malaria

AGENCY: Department of the Army, DOD.

ACTION: Notice.

SUMMARY: In accordance with 37 CFR Part 404.6 and 404.7, announcement is made of the availability for licensing of inventions set forth in the following, related patent applications:

1. Title: Indolo [2,1-B] Quinazole-6, 12-Dione Antimalarial Compounds and Methods of Treating Malaria.

U.S. Patent No.: 6,531,487.

Issued: March 11, 2003.

2. Title: Indolo [2,1-B] Quinazole-6, 12-Dione Antimalarial Compounds and Methods.

U.S. Patent No.: 6,284,772.

Issued: September 28, 1999.

Foreign rights are also available. The United States Government, as represented by the Secretary of the Army, has rights in these inventions.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research & Technology Applications, (301) 619-6664, both at telefax (301) 619-5034.

Luz D. Ortiz,
Army Federal Register Liaison Officer.

[FR Doc. 03-26431 Filed 10-20-03; 8:45 am]

BILLING CODE 3710-08-M